DEPARTMENT OF TRANSPORTATION

Federal Aviation Administration

14 CFR Part 71

[Docket No. FAA-2025-0775; Airspace Docket No. 25-AGL-6]

RIN 2120-AA66

Amendment of Class E Airspace; Iron Mountain Kingsford, MI

AGENCY: Federal Aviation Administration (FAA), DOT.

ACTION: Final rule.

SUMMARY: This action amends the Class E airspace at Iron Mountain Kingsford, MI. This action is the result of an airspace review conducted due to the decommissioning of the Iron Mountain very high frequency omnidirectional range (VOR) as part of the VOR Minimum Operational Network (MON) Program; brings the airspace into compliance with FAA orders; and supports instrument flight rule (IFR) procedures and operations.

DATES: Effective 0901 UTC, October 2, 2025. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours each day, 365 days each year. An electronic copy of this document may also be downloaded from the Office of the Federal Register's website at www.federalregister.gov.

FAA Order JO 7400.11J, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends the Class E surface airspace and Class E airspace extending upward from 700 feet above the surface at Ford Airport, Iron Mountain Kingsford, MI, to support IFR operations at this airport.

History

The FAA published an NPRM for Docket No. FAA-2025-0775 in the Federal Register (90 FR 17335; April 25, 2025) proposing to amend the Class E airspace at Iron/Mountain Kingsford, MI. Interested parties were invited to participate in this rulemaking effort by submitting written comments on the proposal to the FAA. No comments were received.

Incorporation by Reference

Class E airspace designations are published in paragraphs 6002 and 6005 of FAA Order JO 7400.11, Airspace Designations and Reporting Points, which is incorporated by reference in 14 CFR 71.1 on an annual basis. This document amends the current version of that order, FAA Order JO 7400.11J, dated July 31, 2024, and effective September 15, 2024. These amendments will be published in the next update to FAA Order JO 7400.11. FAA Order JO 7400.11J, which lists Class A, B, C, D, and E airspace areas, air traffic service routes, and reporting points, is publicly available as listed in the ADDRESSES section of this document.

Differences From the NPRM

The NPRM updated the city in the header of the airspace legal descriptions from “Iron Mountain, MI” to “Iron Mountain/Kingsford, MI” to coincide with the FAA aeronautical database; however, the update should not have included the “/” and should have been “Iron Mountain Kingsford, MI”. As this typographic error does not change the boundaries of the airspace as proposed or impose any additional requirements on users of the airspace, the FAA has determined that good cause exists for not recirculating this action for public comment, and the omission is being corrected in this action.

The Rule

This action amends 14 CFR part 71 by:

Modifying the Class E surface airspace: (1) to within a 4.1-mile (reduced from a 7-mile) radius of Ford Airport, Iron Mountain Kingsford, MI; (2) within 1 mile each side of the 188° bearing from the airport extending from the 4.1-mile radius to 4.5 miles south of the airport; (3) updates the header of the airspace legal description from “Iron Mountain, MI” to “Iron Mountain Kingsford, MI” to coincide with the FAA aeronautical database; (4) removes the city associated with the airport in the header of the airspace legal description to comply with changes to FAA Order JO 7400.2P, Procedures for Handling Airspace Matters; (5) updates the outdated terminology of “control zone” to “Class E surface area” and “Airport/Facility Directory” to “Chart Supplement”.

Also, this action amends the Class E airspace extending from 700 ft above the surface: (1) to within a 6.6-mile (decreased from a 8.7-mile) radius of Ford Airport; (2) removes the extension south of the airport as it is no longer needed; (3) amends the extension north of the airport to within 3.6 (decreased from 4.4) miles each side of the 008° bearing from the Ford: RWY 01-LOC (previously Iron Mountain ILS localizer north course) extending from the 6.6-mile (decreased from 8.7-mile) radius of the airport to 11.1 (decreased from 16) miles north of the airport; (4) updates the header from “Iron Mountain, MI”, to “Iron Mountain Kingsford, MI” to coincide with the FAA's aeronautical database; and (5) removes the city associated with the airport in the header of the airspace legal description to comply with changes to FAA Order JO 7400.2P.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 6002 Class E Airspace Areas Designated as Surface Areas.

* * * * *

AGL MI E2 Iron Mountain Kingsford, MI [Amended]

Ford Airport, MI

(Lat. 45°49′06″ N, long. 88°06′52″ W)

Within a 4.1-mile radius of Ford Airport; and within 1 mile each side of the 188° bearing from the airport extending from the 4.1-mile radius to 4.5 miles south of the airport. This Class E surface area is effective during the specific dates and times established in advance by a Notice to Airmen. The effective dates and times will thereafter be continuously published in the Chart Supplement.

* * * * *

Paragraph 6005 Class E Airspace Areas Extending Upward From 700 Feet or More Above the Surface of the Earth.

* * * * *

AGL MI E5 Iron Mountain Kingsford, MI [Amended]

Ford Airport, MI

(Lat. 45°49′06″ N, long. 88°06′52″ W)

Ford: RWY 01-LOC

(Lat. 45°49′57″ N, long. 88°06′39″ W)

That airspace extending upward from 700 feet above the surface within a 6.6-mile radius of Ford Airport; and within 3.6 miles each side of the 008° bearing from the Ford: RWY 01-LOC extending from the 6.6-mile radius of the airport to 11.1 miles north of the airport.

* * * * *

Issued in Fort Worth, Texas, on June 11, 2025.
Dallas W. Lantz,
Acting Manager, Operations Support Group, ATO Central Service Center.

[FR Doc. 2025-10916 Filed 6-13-25; 8:45 am]

BILLING CODE 4910-13-P